DEPARTMENT OF TRANSPORTATION

Federal Aviation Administration

Aviation Rulemaking Advisory Committee; Renewal

AGENCY: Federal Aviation Administration (FAA), DOT.

ACTION: Notice of renewal.

SUMMARY: Pursuant to section 14(a)(2)(A) of the Federal Advisory Committee Act, and in accordance with section 102-3.65, title 41 of the Code of Federal Regulations, notice is hereby given that the Aviation Rulemaking Advisory Committee has been renewed for a 2-year period beginning April 7, 2004. The primary purpose of the Committee is to provide the aviation public with a means to have its interests in aviation safety rulemaking considered in developing regulatory actions, thus enabling the agency to produce better documents. It has also been determined that renewal of the Committee would be in the public interest with regard to the performance of duties imposed on the FAA by law. The Committee will operate in accordance with the rules of the Federal Advisory Committee Act and the Department of Transportation, FAA Committee Management Order (1110.30C).

You may receive further information about this Advisory Committee from Ms. Gerri Robinson, Office of Rulemaking, 800 Independence Avenue, SW., Washington, DC 20591, telephone: 202-267-9678.

Issued in Washington, DC, on March 26, 2004.
Anthony F. Fazio,
Executive Director, Aviation Rulemaking Advisory Committee.

[FR Doc. 04-7488 Filed 4-1-04; 8:45 am]

BILLING CODE 4910-13-P